DEPARTMENT OF HEALTH AND HUMAN SERVICES

National Institutes of Health

Center for Scientific Review; Amended Notice of Meeting

Notice is hereby given of a change in the meeting of the Genome Study Section, November 1, 2001, 8:30 AM to November 2, 2001, 2:30 PM, Embassy Square, 2000 N Street, NW., Washington, DC, 20036 which was published in the Federal Register on October 19, 2001, 66 FR 53229-53231.

This meeting will be held at the Westin Grand Hotel, 2350 M Street, NW., Washington, DC 20037. The ending time has been changed to 1:45 PM. The meeting is closed to the public.

Dated: October 26, 2001.
LaVerne Y. Stringfield,
Director, Office of Federal Advisory Committee Policy.

[FR Doc. 01-27514 Filed 11-1-01; 8:45 am]

BILLING CODE 4140-01-M